ENVIRONMENTAL PROTECTION AGENCY

[EPA-HQ-OW-2007-0119; FRL-9313-2]

Draft National Coastal Condition Report IV

AGENCY: Environmental Protection Agency (EPA).

ACTION: Notice of availability and request for comments.

SUMMARY: This Notice invites public comment on the draft National Coastal Condition Report IV (NCCR IV), which describes the condition of the Nation's coastal waters. Clean coastal waters provide environmental, public health, recreational, and economic value; however, these waters are vulnerable to pollution and other stressors from a variety of sources. According to the draft NCCR IV, the overall condition of the Nation's coastal waters continues to be fair, with marginal improvement from EPA's 2008 National Coastal Condition Report III. EPA expects that this Report on the condition of coastal waters will increase public awareness about the extent and seriousness of pollution in these waters and will support more informed decisions concerning protection of this resource.

DATES: Comments must be received on or before August 1, 2011.

ADDRESSES: Submit your comments, identified by Docket ID No. [EPA-EPA-HQ-OW-2007-0019], by one of the following methods:

Email: ow-docket@epa.gov,

Mail: Water Docket, EPA Docket Center, Environmental Protection Agency, Mailcode: 2822T, 1200 Pennsylvania Ave., NW., Room 3334, Washington, DC 20460,

Hand Delivery: Water Docket, EPA Docket Center, Environmental Protection Agency, Mailcode: 2822T, 1200 Pennsylvania Ave., NW., Room 3334, Washington, DC 20460. Such deliveries are only accepted during the Docket's normal hours of operation, and special arrangements should be made for deliveries of boxed information.

Instructions: Direct your comments to Docket ID No. EPA-EPA-HQ-OW-2007-0019. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov.

The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Docket, EPA/DC, EPA West, Room 3334, 1301 Constitution Ave., NW., Washington, DC. The Public Reading Room is open from 8:30 a.m. to 4:30 p.m., Monday through Friday, excluding legal holidays. The telephone number for the Public Reading Room is (202) 566-1744.

FOR FURTHER INFORMATION CONTACT: Gregory Colianni, Ocean and Coastal Protection Division, Office of Water, 4504T, U.S. Environmental Protection Agency, 1200 Pennsylvania Avenue, NW., Washington, DC 20460, telephone number: 202-566-1249; fax number: 202-566-1336; email address: Colianni.Gregory@epa.gov or Virginia Engle, Gulf Ecology Division, Office of Research and Development, Environmental Protection Agency, 1 Sabine Island Drive, Gulf Breeze, Florida 32561; telephone number: (850) 934-9354; fax number: (850) 934-9201; email address: Engle.Virginia@epa.gov.

SUPPLEMENTARY INFORMATION:

I. General Information

This report is designed to help us better understand the condition of the nation's coastal waters, whether that condition is getting better or worse, and how different regions compare. This report, however, cannot represent all individual coastal and estuarine systems of the U.S. and is based on a limited number of ecological indices and component indicators for which nationally consistent data sets are available to support estimates of ecological condition. The assessments provided in this report, and more importantly, the underlying data used to develop the assessments, provides a picture of historical coastal conditions at state, regional, and national scales. For example, the National Coastal Assessment (NCA) data have been used to provide insight into the conditions in the estuaries of Louisiana and Mississippi prior to Hurricane Katrina. These data may also be used, along with data and studies by others, to help us understand conditions in Gulf of Mexico estuaries prior to the Deepwater Horizon incident and subsequent BP oil spill. However, the methodology and data used in this report were not designed to assess all impacts related to oil spills as an ecological stressor. This report does not include, for example, indicators for all oil-related contaminants such as oil itself, grease, alkylated PAHs, or volatile organic compounds, dispersant compounds, or other indicators of oil spill-related exposure that might be required in a comprehensive environmental assessment. Any comparisons to environmental data collected to assess the impact of the BP oil spill on Gulf of Mexico estuaries should be limited to the indicators and methods presented in this report, and to broad generalizations about coastal conditions at state, regional or national scales.

Nevertheless, in light of the 2010 BP oil spill in the Gulf of Mexico, EPA recognizes that some may wish to use the 2003-2006 data presented in the draft NCCR IV as a basis for comparison of ecological conditions in Gulf of Mexico coastal waters following the oil spill. EPA seeks comments from the scientific community on the utility and limitations of the information presented in the draft NCCR IV for this type of impact analysis.

The National Coastal Condition Reports represent collaboration among EPA (Office of Water (OW) and Office of Research and Development (ORD)), the National Oceanic and Atmospheric Administration (NOAA) and the U.S. Fish and Wildlife Services (USFWS), and coastal state agencies. The first National Coastal Condition Report published in 2001 in partnership with NOAA, USFWS, U.S. Geological Survey (USGS), and U.S. Department of Agriculture (USDA) included some data from about 70% of the U.S. coastal waters. Based upon available data from 1990-1996, the Report concluded that the Nation's coastal waters were in fair condition. The second National Coastal Condition Report, released in 2005, included some data from all of the Nation's coastal waters in the conterminous 48 states and Puerto Rico, and concluded that these waters continued to be in fair condition. The third National Coastal Condition Report, released in 2008, built upon the previous reports and provided assessments based on data collected from 2001 to 2003. The third Report similarly concluded that the overall condition of the Nation's coastal waters was fair. According to the draft NCCR IV, the overall condition of the Nation's coastal waters continues to be fair, with marginal improvement from EPA's 2008 National Coastal Condition Report III.

With each successive report the geographic scope of NCA coverage has expanded. This fourth edition of the NCCR includes for the first time an assessment of estuarine condition in American Samoa, Guam, and the U.S. Virgin Islands along with updated assessment of coastal waters of the conterminous U.S., Alaska, Hawaii, and Puerto Rico. The NCCR IV data were collected from 3,144 sites from 2003 through 2006. This Report serves as a useful tool for analyzing the progress of coastal programs implemented since the first Report and as a “benchmark” for future comparisons and therefore allows for the analysis of trends in condition over time.

The information presented in the NCCR IV is more streamlined than the NCCR III, with a greater focus on NCA indicators rather than highlights of other coastal programs. In addition to expanded NCA geographic coverage, the NCCR IV also includes several new sections: Summaries of offshore ocean condition for three areas (Mid-Atlantic Bight, South Atlantic Bight, and the West Coast) and comparisons of these waters with near-shore condition, trends in regional beach closures, a Great Lakes fisheries section, and a chapter on emerging coastal issues.

The Draft National Coastal Condition Report IV is also undergoing an external peer review led by EPA's Office of Research and Development. The peer review plan, including the peer review charge questions, is available upon request by contacting Virginia Houk at: Houk.Virginia@epa.gov.

The draft document can be found on the Web at:

http://nccr4.rti.org/

Username = nccr4

Password = Coastal10!

Dated: May 20, 2011.
Nancy K. Stoner,
Acting Assistant Administrator for Water.

[FR Doc. 2011-13400 Filed 5-27-11; 8:45 am]

BILLING CODE 6560-50-P